ENVIRONMENTAL PROTECTION AGENCY

40 CFR Part 86

[EPA-HQ-OAR-2017-0755; FRL-9986-20-OAR]

RIN 2060-AT75

Light-Duty Vehicle GHG Program Technical Amendments; Reopening of Comment Period

AGENCY: Environmental Protection Agency (EPA).

ACTION: Proposed rule; reopening of comment period.

SUMMARY: EPA is announcing a reopening of the comment period for the proposed rule “Light-duty Vehicle GHG Program Technical Amendments,” to provide an additional 30 days for public comment. This document reopens the comment period and establishes a new comment period end date. This additional opportunity to submit comments is provided in response to a request for such an extension and to allow the public additional time to comment on the proposed rule.

DATES: The comment period for the proposed rule, published on October 1, 2018 (83 FR 49344), is reopened. Written comments must be received on or before November 30, 2018, in order to be considered timely.

ADDRESSES: Submit your comments, identified by Docket ID No. EPA-HQ-OAR-2017-0755, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Christopher Lieske, Office of Transportation and Air Quality (OTAQ), Assessment and Standards Division (ASD), Environmental Protection Agency, 2000 Traverwood Drive, Ann Arbor, MI 48105; telephone number: (734) 214-4584; email address: lieske.christopher@epa.gov fax number: 734-214-4816.

SUPPLEMENTARY INFORMATION: In the EPA proposal “Light-duty Vehicle GHG Program Technical Amendments,” published in the Federal Register on October 1, 2018 (83 FR 49344), EPA requested comment on all aspects of the proposal. The initial comment period ended on October 31, 2018 (30 days after publication of the proposal in the Federal Register). EPA received a request from the Chesapeake Bay Foundation for a 30-day extension of the comment period based on its concern regarding the complexity of calculations involved in the proposal. The request can be found in the docket for the rulemaking, Docket EPA-HQ-OAR-2017-0755. EPA has considered the request and believes it is reasonable to provide additional time for commenters to submit comments to ensure that the public has sufficient time to review and comment on the proposal. EPA is granting the request, reopening the comment period to accept comments through November 30, 2018. Instructions for submitting comments are provided above under ADDRESSES.

The proposal for which EPA is reopening the comment period was published in the Federal Register on October 1, 2018 (83 FR 49344) and is also available at the web page https://www.epa.gov/regulations-emissions-vehicles-and-engines/proposed-rule-technical-amendments-light-duty-vehicle and in the rulemaking docket.

Dated: October 30, 2018.
Christopher Grundler,
Director, Office of Transportation and Air Quality, Office of Air and Radiation, U.S. Environmental Protection Agency.

[FR Doc. 2018-24267 Filed 11-7-18; 8:45 am]

BILLING CODE 6560-50-P